DEPARTMENT OF HEALTH AND HUMAN SERVICES

National Institutes of Health

National Institute of Nursing Research; Amended Notice of Meeting

Notice is hereby given of a change in the meeting of the National Institute of Nursing Research Special Emphasis Panel, March 5, 2007, 5:30 p.m. to March 5, 2007, 6 p.m., Crowne Plaza Hotel, 8777 Georgia Avenue, Silver Spring, MD 20910 which was published in the Federal Register on January 30, 2007, FR 07-359.

The meeting date was changed from March 5, 2007 to April 11, 2007. The meeting begins at 7:30 a.m. and ends at 3 p.m. The meeting location changed from Crowne Plaza Hotel, Silver Spring to 6701 Democracy Blvd, Bethesda. The meeting is closed to the public.

Dated: April 2, 2007.
Jennifer Spaeth,
Director, Office of Federal Advisory Committee Policy.

[FR Doc. 07-1734 Filed 4-6-07; 8:45 am]

BILLING CODE 4140-01-M